DEPARTMENT OF TRANSPORTATION

Federal Aviation Administration

Notice of Passenger Facility Charge (PFC) Approvals and Disapprovals.

AGENCY: Federal Aviation Administration (FAA), DOT.

ACTION: Monthly Notice of PFC Approvals and Disapprovals. In July 2014, there were seven applications approved. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

PUBLIC AGENCY: Greater Orlando Aviation Authority, Orlando, Florida.

APPLICATION NUMBER: 14-17-C-00-MCO.

APPLICATION TYPE: Impose and use a PFC.

PFC LEVEL: $3.00.

TOTAL PFC REVENUE APPROVED IN THIS DECISION: $396,491,622.

EARLIEST CHARGE EFFECTIVE DATE: July 1, 2034.

ESTIMATED CHARGE EXPIRATION DATE: August 1, 2038.

CLASS OF AIR CARRIERS NOT REQUIRED TO COLLECT PFC'S: None.

BRIEF DESCRIPTION OF PROJECTS PARTIALLY APPROVED FOR COLLECTION AND USE: South airport automated people mover system, stations, and associated facilities—design and construction.

Determination: Partially approved. The south airport station is planned to be a multi-modal facility however PFC eligibility is limited to that work that is exclusively for airport use. The approved amount was decreased from that requested due to portions of the project not being for exclusive airport use. In addition, other components of the project, including but not limited to roadway lighting and concession space, were determined to be ineligible for PFC funding.

South airport automated people mover systems—roadways, curbs, and infrastructure—design and construction.

Determination: Partially approved. The FAA determined that three of the four roadway segments requested in the project were ineligible for PFC funding.

South airport automated people mover ticketing baggage check-in facility—design and construction.

Determination: Partially approved. The FAA determined that certain elements, including but not limited to concession space and nonaeronautical areas, were not PFC eligible.

DECISION DATE: July 11, 2014.

For Further Information Contact: Marisol Elliott, Orlando Airports District Office, (407) 812-6331.

PUBLIC AGENCY: New Hanover County Airport Authority, Wilmington, North Carolina.

APPLICATION NUMBER: 14-06-C-00-ILM.

APPLICATION TYPE: Impose and use a PFC.

PFC LEVEL: $4.50.

TOTAL PFC REVENUE APPROVED IN THIS DECISION: $7,947,596.

EARLIEST CHARGE EFFECTIVE DATE: October 1, 2019.

ESTIMATED CHARGE EXPIRATION DATE: August 1, 2024.

CLASS OF AIR CARRIERS NOT REQUIRED TO COLLECT PFC'S: Air taxi/commercial operators filing FAA Form 1800-31 and operating at Wilmington International Airport (ILM).

DETERMINATION: Approved. Based on information contained in the public agency's application, the FAA has determined that the proposed class accounts for less than 1 percent of the total annual enplanements at ILM.

BRIEF DESCRIPTION OF PROJECTS APPROVED FOR COLLECTION AND USE:

Passenger loading bridge acquisition Gate 5.

Rehabilitate air carrier apron.

Terminal heating, ventilation, and air conditioning upgrade.

Storm water phase II.

International customs ramp rehabilitation.

Drainage pipe rehabilitation.

Aircraft rescue and firefighting truck—1,500 gallon.

Light emitting diode signs.

Runway 24 pipe ditches—design and permitting.

Taxiways A, D, H and F rehabilitation.

Taxiways B, C, and J shoulders and tapers rehabilitation.

Passenger loading bridge acquisition—Gate 7.

Passenger loading bridge retrofit—Gate 8.

Security checkpoint rehabilitation.

Light emitting diode taxiway lighting.

Runway 17 extension.

Kerr Avenue security fencing.

Runway 17/35 rehabilitation.

Land acquisition—runway 17 approach.

Master plan update.

Airfield lighting vault upgrade.

Security vehicle.

Digital safety sign.

Passenger loading bridge safety upgrades.

PFC application development.

PFC program administration.

Passenger loading bridge Gate 1.

Access control and closed circuit television replacement and enhancements.

Terminal complex rehabilitation.

BRIEF DESCRIPTION OF PROJECTS APPROVED FOR COLLECTION:

Runway 24 pipe ditches—construction.

Security fence replacement.

Safety boat ramp.

BRIEF DESCRIPTION OF WITHDRAWN PROJECTS:

Air stair truck.

Triturator.

Date of withdrawal: July 9, 2014.

DECISION DATE: July 11, 2014.

For Further Information Contact: Tommy DuPree, Memphis Airports District Office, (901) 322-8185.

PUBLIC AGENCY: Aerostar Airport Holdings LLC, San Juan, Puerto Rico.

APPLICATION NUMBER: 14-07-C-00-SJU.

APPLICATION TYPE: Impose and use a PFC.

PFC LEVEL: $4.50.

TOTAL PFC REVENUE APPROVED IN THIS DECISION: $156,436,007.

EARLIEST CHARGE EFFECTIVE DATE: May 1, 2020.

ESTIMATED CHARGE EXPIRATION DATE: September 1, 2027.

CLASSES OF AIR CARRIERS NOT REQUIRED TO COLLECT PFC'S:

(1) Air taxi/commercial operators filing FAA Form 1800-31 and operating at Luis Munoz Marin International Airport (SJU); and

(2) certificated route air carriers filing DOT Form T-100 that operate on a non-scheduled basis at SJU and enplane less than 750 annual passengers.

DETERMINATION: Approved. Based on information contained in the public agency's application, the FAA has determined that each of the proposed classes accounts for less than 1 percent of the total annual enplanements at SJU.

BRIEF DESCRIPTION OF PROJECTS APPROVED FOR COLLECTION AND USE AT A $4.50 PFC LEVEL:

Airport perimeter security system.

Airfield signage improvements.

BRIEF DESCRIPTION OF PROJECTS APPROVED FOR COLLECTION AND USE AT A $3.00 PFC LEVEL:

Environmental assessment for runway 8/26 runway object free area and drainage system rehabilitation.

PFC application development.

Airport master plan update.

BRIEF DESCRIPTION OF PROJECTS PARTIALLY APPROVED FOR COLLECTION AND USE AT A $4.50 PFC LEVEL:

Terminal capacity enhancement program.

DETERMINATION: Partially approved. The FAA determined that several proposed components were not eligible for PFC funding, including: Design and construction contingencies; Transportation Security Administration break room and office space; explosive detection system machines; concessions and airline ticket office relocations; tenant build-out and finishes; and a pro-rated amount of the building mechanical systems.

Replacement aircraft rescue and firefighting trucks and equipment.

DETERMINATION: Partially approved. The public agency requested replacement of two 1,500-gallon vehicles with two 3,000-gallon vehicles however the FAA determined that the airport only qualified for replacement of a single 1,500-gallon vehicle.

Runway 8/26 overlay.

DETERMINATION: The FAA determined that the contingency and escalation costs included in the project cost estimate were not PFC eligible.

Taxiway N reconstruction.

DETERMINATION: The FAA determined that the contingency and escalation costs included in the project cost estimate were not PFC eligible.

Taxiway S reconstruction.

DETERMINATION: The FAA determined that a portion of the project was completed before control of the airport was transferred to Aerostar Airport Holdings LLC and, therefore, Aerostar is not entitled to reimbursement for costs incurred prior to the transfer.

BRIEF DESCRIPTION OF PROJECT PARTIALLY APPROVED FOR COLLECTION AND USE AT A $3.00 PFC LEVEL:

Wildlife management equipment.

DETERMINATION: Partially approved. The FAA determined that the two operations vehicles were not eligible for PFC funding.

BRIEF DESCRIPTION OF WITHDRAWN PROJECTS:

Aircraft rescue and firefighting access road and demolition of building No. 29.

Taxiway M widening and vehicle service road—phase I design.

DATE OF WITHDRAWAL: March 28, 2014.

DECISION DATE: July 11, 2014.

For Further Information Contact: Parks Preston, Atlanta Airports District Office, (404) 305-7149.

PUBLIC AGENCY: Metropolitan Washington Airports Authority, Washington, District of Columbia.

APPLICATION NUMBER: 14-09-C-00-DCA.

APPLICATION TYPE: Impose and use a PFC.

PFC LEVEL: $4.50.

TOTAL PFC REVENUE APPROVED IN THIS DECISION: $425,514,274.

EARLIEST CHARGE EFFECTIVE DATE: March 1, 2015.

ESTIMATED CHARGE EXPIRATION DATE: February 1, 2023.

CLASS OF AIR CARRIERS NOT REQUIRED TO COLLECT PFC'S: Air taxi/commercial operators filing FAA Form 1800-31.

DETERMINATION: Approved. Based on information contained in the public agency's application, the FAA has determined that the proposed class accounts for less than 1 percent of the total annual enplanements at Ronald Reagan Washington National Airport (DCA).

BRIEF DESCRIPTION OF PROJECTS APPROVED FOR COLLECTION AT DCA AND USE AT DCA AT A $4.50 PFC LEVEL:

Runway 1/19 runway safety area improvements.

Runway 1/19 overlay.

Runway 15/33 overlay.

Runway 4/22 overlay.

Runway 15/33 runway safety area improvements.

Runway 4/22 runway safety area improvements.

Taxiways B, K and P resurfacing.

River rescue north boat house.

Aircraft rescue and firefighting building.

BRIEF DESCRIPTION OF PROJECT APPROVED FOR COLLECTION AT DCA AND USE AT DCA AT A $3.00 PFC LEVEL: New apron at demolished aircraft rescue and firefighting site.

BRIEF DESCRIPTION OF PROJECT APPROVED FOR COLLECTION AT DCA AND USE AT WAHINGTON DULLES INTERNATIONAL AIRPORT (IAD) AT A $3.00 PFC LEVEL: IAD metrorail station.

DECISION DATE: July 11, 2014.

For Further Information Contact: Jeffrey Breeden, Washington Airports District Office, (703) 661-1363.

PUBLIC AGENCY: Cheyenne Airport Board, Cheyenne, Wyoming.

APPLICATION NUMBER: 14-03-C-00-CYS.

APPLICATION TYPE: Impose and use a PFC.

PFC LEVEL: $4.50.

TOTAL PFC REVENUE APPROVED IN THIS DECISION: $439,896.

EARLIEST CHARGE EFFECTIVE DATE: September 1, 2014.

ESTIMATED CHARGE EXPIRATION DATE: September 1, 2024.

CLASS OF AIR CARRIERS NOT REQUIRED TO COLLECT PFC'S: None.

BRIEF DESCRIPTION OF PROJECTS APPROVED FOR COLLECTION AND USE:

Rehabilitate taxiway A1.

Rehabilitate apron.

Construct apron.

Conduct wildlife hazard management study.

Rehabilitate runway 13/31.

Safety management system program.

Update airport master plan study.

Conduct environmental assessment for new terminal building.

Rehabilitate taxiways B, B2, A3, and A.

Rehabilitate airfield pavement markings.

New lighting control system.

Airport sustainability plan.

Acquire snow removal equipment—snow plow and broom head.

Acquire snow removal equipment—plow truck and broom.

PFC administration.

DECISION DATE: July 18, 2014.

For Further Information Contact: Jesse Lyman, Denver Airports District Office, (303) 342-1262.

PUBLIC AGENCY: South Jersey Transportation Authority, Egg Harbor Township, New Jersey.

APPLICATION NUMBER: 14-08-C-00-ACY.

APPLICATION TYPE: Impose and use a PFC.

PFC LEVEL: $4.50.

TOTAL PFC REVENUE APPROVED IN THIS DECISION: $27,459,848.

EARLIEST CHARGE EFFECTIVE DATE: September 1, 2014.

ESTIMATED CHARGE EXPIRATION DATE: March 1, 2025.

CLASS OF AIR CARRIERS NOT REQUIRED TO COLLECT PFC'S: Air taxi/commercial operators—non-scheduled/on-demand air carriers filing FAA Form 1800-31.

DETERMINATION: Approved. Based on information contained in the public agency's application, the FAA has determined that the proposed class accounts for less than 1 percent of the total annual enplanements at Atlantic City International Airport.

BRIEF DESCRIPTION OF PROJECT APPROVED FOR COLLECTION AND USE:

Terminal expansion and Federal Inspection Services.

Environmental mitigation—phase VII.

Construct aircraft rescue and firefighting building.

Acquire aircraft rescue and firefighting vehicles.

Rehabilitate terminal apron—phase II.

Environmental and design for perimeter fence.

Rehabilitate taxiway D.

Construct deicing containment facility—design.

DECISION DATE: July 23, 2014.

For Further Information Contact: Lori Ledebohm, Harrisburg Airports District Office, (717) 730-2835.

Public Agency: Board of Trustees—University of Illinois, Savoy, Illinois.

APPLICATION NUMBER: 14-05-C-00-CMI.

APPLICATION TYPE: Impose and use a PFC.

PFC LEVEL: $4.50.

TOTAL PFC REVENUE APPROVED IN THIS DECISION: $1,662,600.

EARLIEST CHARGE EFFECTIVE DATE: September 1, 2014.

ESTIMATED CHARGE EXPIRATION DATE: June 1, 2019.

CLASS OF AIR CARRIERS NOT REQUIRED TO COLLECT PFC'S: Non-scheduled/on-demand air carriers filing FAA Form 1800-31 and operating at University of Illinois—Willard Airport (CMI).

DETERMINATION: Approved. Based on information contained in the public agency's application, the FAA has determined that the proposed class accounts for less than 1 percent of the total annual enplanements at CMI.

BRIEF DESCRIPTION OF PROJECTS APPROVED FOR COLLECTION AND USE:

Re-alignment of taxiway C.

Improve taxiway A/B geometry and widen taxiway A (reimbursement).

Snow removal equipment—salt spreader.

Snow removal equipment—small snow broom.

Rehabilitate general aviation apron.

Rehabilitate general aviation taxiways.

Snow removal equipment—18-foot snow broom.

Snow removal equipment—snow blower.

Prepare PFC application.

DECISION DATE: July 24, 2014.

For Further Information Contact: Michael Brown, Chicago Airports District Office, (847) 294-7195.

Amendments to PFC Approvals
Amendments No. city, state | Amendment approved date | Original approved net PFC revenue | Amended approved net PFC revenue | Original estimated charge exp. date | Amended estimated charge exp. date
95-02-C-05-BUF Buffalo, NY | 07/10/14 | $2,528,721 | $2,626,057 | 06/01/05 | 06/01/05
07-06-C-03-BUF Buffalo, NY | 07/10/14 | 77,745,807 | 78,223,520 | 11/01/12 | 11/01/12
09-07-C-02-BUF Buffalo, NY | 07/10/14 | 14,262,010 | 14,263,552 | 03/01/14 | 03/01/14
10-08-C-01-BUF Buffalo, NY | 07/10/14 | 1,844,274 | 1,849,371 | 06/01/14 | 06/01/14
11-09-C-01-BUF Buffalo, NY | 07/10/14 | 1,702,533 | 1,983,013 | 08/01/14 | 09/01/14
04-06-C-01-ATL Atlanta, GA | 07/11/14 | 18,462,000 | 22,550,861 | 09/01/18 | 09/01/18
06-08-C-03-ATL Atlanta, GA | 07/11/14 | 227,606,163 | 168,388,941 | 01/01/20 | 10/01/19
10-08-C-01-ATL Atlanta, GA | 07/11/14 | 25,166,712 | 30,758,063 | 06/01/20 | 02/01/20
11-04-C-01-RDD Redding, CA | 07/18/14 | 553,103 | 664,592 | 09/01/14 | 02/01/18
08-04-C-01-ELP El Paso, TX | 07/22/14 | 10,098,221 | 8,622,031 | 06/01/09 | 06/01/09
03-02-C-04-LGB Long Beach, CA | 07/25/14 | 62,344,903 | 62,344,903 | 10/01/14 | 02/01/15
10-05-C-01-LGB Long Beach, CA | 07/25/14 | 10,845,000 | 11,695,000 | 07/01/30 | 06/01/32

Issued in Washington, DC, on November 17, 2014.
Joe Hebert,
Manager, Financial Analysis and Passenger Facility Charge Branch.

[FR Doc. 2014-27804 Filed 11-21-14; 8:45 am]

BILLING CODE 4910-13-P